DEPARTMENT OF COMMERCE

National Oceanic and Atmospheric Administration

50 CFR Part 665

[Docket No. 0808061074-81147-01]

RIN 0648-AW66

Fisheries in the Western Pacific; Pelagic Fisheries; Purse Seine Prohibited Areas Around American Samoa

AGENCY: National Marine Fisheries Service (NMFS), National Oceanic and Atmospheric Administration (NOAA), Commerce.

ACTION: Disapproval of fishery ecosystem plan amendment and withdrawal of proposed rule.

SUMMARY: NMFS announces that it has disapproved proposed Amendment 3 to the Fishery Ecosystem Plan for Pelagic Fisheries of the Western Pacific (FEP) that would have prohibited purse seine fishing within 75 nm of shore around American Samoa. Therefore, NMFS withdraws the proposed rule for Amendment 3.

FOR FURTHER INFORMATION CONTACT: Adam Bailey, NMFS, (808) 944-2248.

SUPPLEMENTARY INFORMATION: In Amendment 3 to the FEP, the Council recommended that NMFS prohibit purse seine fishing in the EEZ within 75 nm of shore around American Samoa. Fishing by all U.S. vessels 50 ft and longer, including purse seiners, is currently prohibited within 50 nm of shore. Amendment 3 would have extended the boundaries of the prohibited areas offshore an additional 25 nm specifically for purse seine fishing. The recommended additional prohibited areas were intended to prevent localized stock depletion by purse seine fishing, and to reduce catch competition and gear conflicts between U.S. purse seine vessels and American Samoa-based local longline and trolling fleets.

NMFS disapproved Amendment 3 on July 5, 2011, because the proposed measures were inconsistent with the Magnuson-Stevens Fishery Management and Conservation Act's National Standard 2. National Standard 2 requires conservation and management measures to be based on the best scientific information available, and requires that fishery actions be founded on thorough analyses that allow NMFS to conclude that the selected alternative will accomplish necessary and appropriate conservation and management objectives. The Council's recommendation found inadequate support in the scientific evidence presented to NMFS. As a result of disapproving Amendment 3, NMFS will not publish a final rule to implement the proposed prohibited areas.

NMFS hereby withdraws the proposed rule (76 FR 23964, April 29, 2011).

Authority: 16 U.S.C. 1801 et seq.

Dated: July 5, 2011.
Eric C. Schwaab,
Assistant Administrator for Fisheries, National Marine Fisheries Service.

[FR Doc. 2011-17357 Filed 7-8-11; 8:45 am]

BILLING CODE 3510-22-P